NATIONAL AERONAUTICS AND SPACE ADMINISTRATION

[Notice: (22-062)]

Heliophysics Advisory Committee; Meeting

AGENCY: National Aeronautics and Space Administration.

ACTION: Notice of meeting.

SUMMARY: In accordance with the Federal Advisory Committee Act, as amended, the National Aeronautics and Space Administration (NASA) announces a meeting of the Heliophysics Advisory Committee (HPAC). This Committee functions in an advisory capacity to the Director, Heliophysics Division, in the NASA Science Mission Directorate. The meeting will be held for the purpose of soliciting, from the science community and other persons, scientific and technical information relevant to program planning.

DATES: Tuesday, September 20, 2022, 1:00 p.m.-6:00 p.m., and Wednesday, September 21, 2022, 11:00 a.m.-3:00 p.m., Eastern Time.

SUPPLEMENTARY INFORMATION: This meeting will be open to the public. The meeting will take place telephonically and via WebEx. Any interested person must use a touch-tone phone to participate in this meeting. To join by telephone, the numbers are: 1-929-251-9612 or 1-415-527-5035, on both days.

On Tuesday, September 20, the WebEx link is https://nasaenterprise.webex.com/nasaenterprise/j.php?MTID=m6b3fb1149bc9e9b96a195e55b3afdd9f and the meeting number is 2762 406 1300 and on Wednesday, September 21, the WebEx link is https://nasaenterprise.webex.com/nasaenterprise/j.php?MTID=mabcc62f04bce09d14330b457a7e67f4d and the meeting number is 2764 161 7655. The password is HPACfall2022# (case sensitive) for each day.

The agenda for the meeting includes the following topic:

• Heliophysics Program Annual Performance Review According to the Government Performance and Results Act Modernization Act

• Heliophysics Division Update.

FOR FURTHER INFORMATION CONTACT: Mrs. KarShelia Kinard, Science Mission Directorate, NASA Headquarters, Washington, DC 20546, (202) 358-2355, or karshelia.kinard@nasa.gov.

It is imperative that the meeting be held on these dates to accommodate the scheduling priorities of the key participants.

Carol J. Hamilton,
Acting Advisory Committee Management Officer, National Aeronautics and Space Administration.

[FR Doc. 2022-18506 Filed 8-26-22; 8:45 am]

BILLING CODE 7510-13-P